INTERNATIONAL TRADE COMMISSION

[Investigation No. 337-TA-773]

Certain Motion-Sensitive Sound Effects Devices and Image Display Devices and Components and Products Containing Same; Termination of Investigation

AGENCY: U.S. International Trade Commission.

ACTION: Notice.

SUMMARY: Notice is hereby given that the U.S. International Trade Commission has determined not to review an initial determination (“ID”) (Order No. 61) granting a joint motion to terminate the above-captioned investigation as to respondents Toshiba Corporation of Tokyo, Japan, and Toshiba America Information Systems, Inc., of Irvine, California (collectively, “Toshiba”) based on a settlement agreement. Because the Toshiba entities were the last remaining entities in the investigation, the consolidated investigation is terminated.

FOR FURTHER INFORMATION CONTACT: Clark S. Cheney, Office of the General Counsel, U.S. International Trade Commission, 500 E Street SW., Washington, DC 20436, telephone (202) 205-2661. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 19, 2011, based on a complaint filed by Ogma, LLC (“Ogma”). 76 FR 29006 (May 19, 2011). The complaint alleges violations of section 337 of the Tariff Act of 1930 (19 U.S.C. 1337) in the importation into the United States, the sale for importation, and the sale within the United States after importation of certain motion-sensitive sound effects devices and image display devices and components and products containing same by reason of infringement of certain claims of U.S. Patent Nos. 5,825,427 (“the '427 patent”) and 6,150,947 (“the '947 patent”).

The Commission instituted Inv. No. 337-TA-787 on July 18, 2011, based on another complaint filed by Ogma. 76 FR 42136 (July 18, 2011). The complaint in the latter investigation alleged violations of section 337 of the Tariff Act of 1930 (19 U.S.C. 1337) by reason of infringement of the same patents asserted in the earlier 773 investigation, namely the '427 patent and the '947 patent. The complaint in the 787 investigation named numerous respondents, including Toshiba.

On July 19, 2011, the ALJ issued an order (Inv. No. 337-TA-787, Order No. 1) consolidating the 787 investigation with the 773 investigation. The consolidated investigation proceeded under the caption of the 773 investigation.

On December 13, 2011, Ogma and Toshiba filed a joint motion to terminate the investigation as to Toshiba based on a settlement agreement. On December 21, 2011, the ALJ issued the subject ID (Order No. 61) granting the motion to terminate the investigation as to Toshiba. Because the Toshiba entities were the last remaining respondents in the investigation, the ALJ also determined that the investigation should be terminated. No petitions for review of the ID were filed.

The Commission has determined not to review the ID. The consolidated investigation is terminated.

The authority for the Commission's determination is contained in section 337 of the Tariff Act of 1930, as amended (19 U.S.C. 1337), and in Part 210 of the Commission's Rules of Practice and Procedure (19 CFR part 210).

By order of the Commission.
Issued: January 13, 2012.
James R. Holbein,
Secretary to the Commission.

[FR Doc. 2012-1030 Filed 1-19-12; 8:45 am]

BILLING CODE 7020-02-P